DEPARTMENT OF THE INTERIOR

Bureau of Land Management

[LLUT922000 L13100000 FI0000 257A]

Notice of Proposed Reinstatement of Terminated Oil and Gas Leases, Utah

AGENCY: Bureau of Land Management, Interior.

ACTION: Notice of Proposed Reinstatement of Terminated Oil and Gas Lease, Utah.

SUMMARY: In accordance with Title IV of the Federal Oil and Gas Royalty Management Act (Pub. L. 97-451), OXY USA Inc. timely filed a petition for reinstatement of oil and gas lease UTU82533 for lands in Sanpete County, Utah, and it was accompanied by all required rentals and royalties accruing from August 1, 2008, the date of termination.

FOR FURTHER INFORMATION CONTACT: Kent Hoffman, Deputy State Director, Division of Lands and Minerals at (801) 539-4080, or Becky Hammond, Chief, Branch of Fluid Minerals at (801) 539-4039.

SUPPLEMENTARY INFORMATION: The Lessee has agreed to new lease terms for rentals and royalties at rates of $10.00 per acre and 16⅔ percent, respectively. The $500 administrative fee for the leases has been paid and the lessee has reimbursed the Bureau of Land Management for the cost of publishing this notice.

Having met all the requirements for reinstatement of the leases as set out in Section 31(d) and (e) of the Mineral Leasing Act of 1920 (30 U.S.C. 188), the Bureau of Land Management is proposing to reinstate the lease, effective September 1, 2008, subject to the original terms and conditions of the leases and the increased rental and royalty rates cited above.

Dated: March 16, 2009.
Selma Sierra,
State Director.

[FR Doc. E9-6228 Filed 3-20-09; 8:45 am]

BILLING CODE 4310-DQ-P